INTERNATIONAL TRADE COMMISSION

[Investigation No. 337-TA-1319]

Certain Electronic Devices and Semiconductor Devices With Timing-Aware Dummy Fill and Components Thereof; Notice of the Commission's Determination Not To Review an Initial Determination Terminating the Investigation Based on Withdrawal of the Complaint; Termination of the Investigation

AGENCY: U.S. International Trade Commission.

ACTION: Notice.

SUMMARY: Notice is hereby given that the U.S. International Trade Commission has determined not to review the presiding administrative law judge's (“ALJ”) initial determination (“ID”) (Order No. 8) terminating the investigation based on withdrawal of the complaint.

FOR FURTHER INFORMATION CONTACT: Amanda Pitcher Fisherow, Esq., Office of the General Counsel, U.S. International Trade Commission, 500 E Street SW, Washington, DC 20436, telephone (202) 205-2737. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on June 13, 2022, based on a complaint filed by Bell Semiconductor, LLC of Bethlehem, Pennsylvania (“Complainant”). 87 FR 35791-92 (June 13, 2022). The complaint, as supplemented, alleged violations of section 337 of the Tariff Act of 1930, as amended, 19 U.S.C. 1337, based upon the importation into the United States, the sale for importation, and the sale within the United States after importation of certain electronic devices and semiconductor devices with timing-aware dummy fill and components thereof by reason of the infringement of certain claims of U.S. Patent No. 7,007,259. The complaint, as supplemented, further alleged that a domestic industry exists. The notice of investigation named as respondents: NXP Semiconductors, N.V. of Eindhoven, Netherlands; NXP B.V. of Eindhoven, Netherlands; NXP USA, Inc. of Austin, Texas; SMC Networks, Inc. d/b/a/IgniteNet of Irvine, California; Micron Technology, Inc. of Boise, Idaho; NVIDIA Corporation of Santa Clara, California; Advanced Micro Devices, Inc. of Santa Clara, California; Acer, Inc. of New Taipei City, Taiwan; Acer America Corporation of San Jose, California; Infineon Technologies America Corp. of Milpitas, California; Analog Devices Inc. of Norwood, Massachusetts; Bose Corporation of Framingham, Massachusetts; Marvell Technology Group, Ltd. of Hamilton, Bermuda; Marvell Semiconductor, Inc. of Santa Clara, California; Suteng Innovation Technology Co., Ltd. d/b/a RoboSense of Shenzen, China; Kioxia Corporation of Tokyo, Japan; Kioxia America, Inc. of San Jose, California; Socionext Inc. of Yokohama, Japan; Socionext America, Inc. of Santa Clara, California; Qualcomm Technologies, Inc. of San Diego, California; Lenovo Group Ltd. of Haidan District, China and Motorola Mobility LLC of Chicago, Illinois. The Office of Unfair Import Investigations (“OUII”) is also participating in the investigation.

On July 26, 2022, Complainant moved to terminate the investigation based on withdrawal of the complaint. On August 1, 2022, the ALJ granted Complainant's motion. The ID found that it was in the public interest to grant the motion, that the Complainant represented “there are no agreements, written or oral, express or implied between Complainant and any Respondents concerning the subject matter of the Investigation,” and that no extraordinary circumstances exist that prevent withdrawal of the complaint. No one petitioned for review of the ID.

The Commission has determined not to review the subject ID. The investigation is terminated.

The Commission vote for this determination took place on August 30, 2022.

The authority for the Commission's determination is contained in section 337 of the Tariff Act of 1930, as amended (19 U.S.C. 1337), and in part 210 of the Commission's Rules of Practice and Procedure (19 CFR part 210).

By order of the Commission.
Issued: August 30, 2022.
Katherine Hiner,
Acting Secretary to the Commission.

[FR Doc. 2022-19089 Filed 9-1-22; 8:45 am]

BILLING CODE 7020-02-P